DEPARTMENT OF AGRICULTURE

Forest Service

Notice of Idaho Panhandle Resource Advisory Committee Meeting; Correction

AGENCY: Forest Service, USDA.

ACTION: Notice of meeting; correction.

SUMMARY: The Forest Service published a document in the Federal Register of July 30, 2012, concerning the Idaho Panhandle Resource Advisory Committee meeting on Friday, August 24, 2012, at 9:00 a.m. in Coeur d'Alene, Idaho for a business meeting open to the public. The date of the meeting has since changed and needs to be amended.

FOR FURTHER INFORMATION CONTACT: Mary Farnsworth, Forest Supervisor and Designated Federal Official, at (208) 765-7369.

Correction

In the Federal Register of July 30, 2012, in FR Doc. 2012-18458, on page 44579, in the first column, correct the DATES and the SUMMARY caption to read:

DATES: September 7, 2012.

SUMMARY: Pursuant to the authorities in the Federal Advisory Committee Act (Pub. L. 112-141) and under the Secure Rural Schools and Community Self-Determination Act of 2000 (Pub. L. 110-343) the Idaho Panhandle Resource Advisory Committee will meet Friday, September 7, 2012, at 9:00 a.m. in Coeur d'Alene, Idaho for a business meeting. The business meeting is open to the public.

Dated: August 3, 2012.
Mary Farnsworth,
Forest Supervisor.

[FR Doc. 2012-19544 Filed 8-10-12; 8:45 am]

BILLING CODE 3410-11-P